UNITED STATES INSTITUTE OF PEACE

Notice of Meeting

Date/Time: Friday, October 21, 2016 (10:00 a.m.-2:30 p.m.).

Location: 2301 Constitution Avenue NW., Washington, DC 20037.

Status: Open Session—Portions may be closed pursuant to Subsection (c) of Section 552(b) of Title 5, United States Code, as provided in subsection 1706(h)(3) of the United States Institute of Peace Act, Public Law 98-525.

Agenda: October 21, 2016 Board Meeting; Approval of Minutes of the One Hundred Fifty-ninth Meeting (July 22, 2016) of the Board of Directors; Chairman's Report; Vice Chairman's Report; President's Report; Reports from USIP Board Committees; ACT Organizational Presentation, CVE/RESOLVE Network Update.

Contact: Nick Rogacki, Special Assistant to the President, Email: nrogacki@usip.org.

Dated: October 5, 2016.

Nicholas Rogacki,
Special Assistant to the President.

[FR Doc. 2016-24620 Filed 10-11-16; 8:45 am]

BILLING CODE 6820-AR-P